FEDERAL ELECTION COMMISSION

Sunshine Act Meeting

FEDERAL REGISTER CITATION NOTICE OF PREVIOUS ANNOUNCEMENT: 86 FR 38713.

PREVIOUSLY ANNOUNCED TIME AND DATE OF THE MEETING: Tuesday, July 27, 2021 at 10:00 a.m. and its continuation at the conclusion of the open meeting on July 29, 2021.

CHANGES IN THE MEETING:

This meeting will also discuss:

Matters relating to internal personnel decisions, or internal rules and practices.

Investigatory records compiled for law enforcement purposes and production would disclose investigative techniques.

Information the premature disclosure of which would be likely to have a considerable adverse effect on the implementation of a proposed Commission action.

* * * * *

CONTACT FOR MORE INFORMATION: Judith Ingram, Press Officer. Telephone: (202) 694-1220.

Vicktoria J. Allen,
Acting Deputy Secretary of the Commission.

[FR Doc. 2021-16557 Filed 7-30-21; 11:15 am]

BILLING CODE 6715-01-P